DEPARTMENT OF LABOR

Employment and Training Administration

[TA-W-72,011]

General Electric Kentucky Glass Plant, Lighting, LLC, Including On-Site Leased Workers From the Patty Tipton Company, Aetna Building Maintenance, and Concentra, Lexington, KY; Amended Certification Regarding Eligibility To Apply for Worker Adjustment Assistance

In accordance with section 223 of the Trade Act of 1974, as amended (“Act”), 19 U.S.C. 2273, the Department of Labor issued a Certification of Eligibility to Apply for Worker Adjustment Assistance on December 23, 2009, applicable to workers of General Electric Kentucky Glass Plant, Lighting, LLC, including on-site leased workers from The Patty Tipton Company and Aetna Building Maintenance, Lexington, Kentucky. The notice was published in the Federal Register on February 16, 2010 (75 FR 7034).

At the request of the State Agency, the Department reviewed the certification for workers of the subject firm. The workers are engaged in the production of glass envelopes for light bulbs.

The company reports that on-site leased workers from Concentra were employed on-site at the Lexington, Kentucky location of General Electric Kentucky Glass Plant, Lighting, LLC. The Department has determined that these workers were sufficiently under the control of the subject firm to be considered leased workers.

Based on these findings, the Department is amending this certification to include workers leased from Concentra working on-site at the Lexington, Kentucky location of General Electric Kentucky Glass Plant, Lighting, LLC.

The amended notice applicable to TA-W-72,011 is hereby issued as follows:

All workers of General Electric Kentucky Glass Plant, Lighting, LLC, including on-site leased workers from The Patty Tipton Company, Aetna Building Maintenance and Concentra, Lexington, Kentucky, who became totally or partially separated from employment on or after July 14, 2008, through December 23, 2011, and all workers in the group threatened with total or partial separation from employment on date of certification through two years from the date of certification, are eligible to apply for adjustment assistance under Chapter 2 of Title II of the Trade Act of 1974, as amended.

Signed at Washington, DC, this 24th day of February 2010.
Del Min Amy Chen,
Certifying Officer, Division of Trade Adjustment Assistance.

[FR Doc. 2010-5311 Filed 3-11-10; 8:45 am]

BILLING CODE 4510-FN-P